DEPARTMENT OF LABOR

Employment and Training Administration

[TA-W-70,045]

Victoria and Company, Ltd, a Division of Jones Apparel Group: Product Development Group, East Providence, RI; Determination Regarding Eligibility To Apply for Worker Adjustment Assistance and Alternative Trade Adjustment Assistance

On October 22, 2009, the Department issued an Affirmative Determination Regarding Application for Reconsideration applicable to workers and former workers of the subject firm.

The previous investigation initiated on May 18, 2009, resulted in a negative determination issued on September 10, 2009, and was based on the finding that imports of solid fragrance compacts did not contribute importantly to worker separations at the subject firm and no shift of production to a foreign source occurred.

In the request for reconsideration, the petitioners supplied additional information and alleged that the workers of the subject firm also designed and fabricated jewelry master models and that the subject firm shifted these functions to China during the relevant period. The petitioners' intention was to file a request for reconsideration for workers engaged in design and fabrication of master models.

The Department contacted a company official of the subject firm to address this allegation. Upon further investigation, it was revealed that the workers of the subject firm not only manufactured solid fragrance compacts, but also performed technical design utilizing CAD systems and were engaged in model making and product coordination during the relevant period. These workers were Model Makers, Product Coordinators and Technical Designers and were employees of the Product Development Group. The workers were separately identifiable from other workers at the subject firm by job classification. The investigation further revealed that the subject firm shifted technical design, model making and product coordination functions to a third party located in Asia and that the worker separations at the above mentioned department were directly attributed to this shift.

Conclusion

After careful review of the additional facts obtained on reconsideration, I determine that workers of Victoria and Company, Ltd, a Division of Jones Apparel Group, Product Development Group, East Providence, Rhode Island, who are engaged in activities related to technical design, model making and product coordination meet the worker group certification criteria under Section 222(a) of the Act, 19 U.S.C. 2272(a). In accordance with Section 223 of the Act, 19. U.S.C. 2273, I make the following certification:

Workers of Victoria and Company, Ltd, a Division of Jones Apparel Group, Product Development Group, East Providence, Rhode Island, who became totally or partially separated from employment on or after May 18, 2008, through two years from the date of this certification, and all workers in the group threatened with total or partial separation from employment on date of certification through two years from the date of certification, are eligible to apply for adjustment assistance under Chapter 2 of Title II of the Trade Act of 1974, as amended.

Signed in Washington, DC this 3rd day of November 2009.
Elliott S. Kushner,
Certifying Officer, Division of Trade Adjustment Assistance.

[FR Doc. E9-27102 Filed 11-10-09; 8:45 am]

BILLING CODE 4510-FN-P